DEPARTMENT OF LABOR

Employment and Training Administration

Agency Information Collection Activities; Comment Request; Job Corps Enrollee Allotment Determination

ACTION: Notice.

SUMMARY: The Department of Labor's (DOL) Employment and Training Administration (ETA) is soliciting comments concerning a proposed revision for the authority to conduct the information collection request (ICR) titled, “Job Corps Enrollee Allotment Determination.” This comment request is part of continuing Departmental efforts to reduce paperwork and respondent burden in accordance with the Paperwork Reduction Act of 1995 (PRA).

DATES: Consideration will be given to all written comments received by April 13, 2026.

ADDRESSES: A copy of this ICR with applicable supporting documentation, including a description of the likely respondents, proposed frequency of response, and estimated total burden, may be obtained free by contacting JobCorps-DPCP@dol.gov.

Submit written comments about, or requests for a copy of this ICR by mail or courier to the U.S. Department of Labor, Employment and Training, Office of Job Corps, 200 Constitution Avenue NW, N-4459, Washington, DC 20210; or by email: JobCorps-DPCP@dol.gov.

FOR FURTHER INFORMATION CONTACT: Ronetia Bacon at Job Corps-DPCP@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

WIOA authorizes the collection of information from Job Corps applicants to determine eligibility for the Job Corps program. 29 U.S.C. 3194-3195. Applicant and student data is maintained in accordance with the Department's Privacy Act System of Records Notice DOL/GOVT-2 Job Corps Student Records authorizes this information collection. Applicant and student data are maintained in accordance with the Department of Labor's (Department) Privacy Act System of Records Notice (SORN) DOL/GOVT-2 Job Corps Student Records. The estimated number of respondents has been adjusted to reflect current enrollment levels. While the required on-board strength remains unchanged, the program has not fully regained its typical enrollment following the pandemic, and a temporary pause on background checks further delayed new enrollments. These factors combined to limit the number of participants eligible for the allotment, resulting in fewer respondents for this collection.

In accordance with 5 CFR 1320, the Department is seeking approval for data collection to obtain necessary information from Job Corps students with dependents if they wish to make an allocation for their beneficiary. The ETA 658—Allotment Request Data Entry Screen is the form used in this collection and is used by students to request allotments for dependent children in accordance with Job Corps regulations and policies. There have been no revisions to this data collection form.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control Number 1205-0030.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: Job Corps Enrollee Allotment Determination.

Form: ETA 658 Allotment Request Data Entry Screen.

OMB Control Number: 1205-0030.

Affected Public: Individual.

Estimated Number of Respondents: 750.

Frequency: 1/person.

Total Estimated Annual Responses: 750.

Estimated Average Time per Response: 3 minutes.

Estimated Total Annual Burden Hours: 37.5.

Total Estimated Annual Other Cost Burden: $0.

Authority: 44 U.S.C. 3506(c)(2)(A).

Henry Maklakiewicz,
Assistant Secretary for Employment and Training, Labor.

[FR Doc. 2026-02644 Filed 2-9-26; 8:45 am]

BILLING CODE 4510-FT-P